DEPARTMENT OF HEALTH AND HUMAN SERVICES

Administration for Children and Families

Proposed Information Collection Activity; Refugee Data Submission System for Formula Funds Allocations and Service Analysis (ORR-5) (Office of Management and Budget #0970-0043)

AGENCY: Office of Refugee Resettlement, Administration for Children and Families, U.S. Department of Health and Human Services.

ACTION: Request for public comments.

SUMMARY: The Office of Refugee Resettlement (ORR), Administration for children and Families (ACF), U.S. Department of Health and Human Services (HHS), seeks an update to the existing data collection for the form ORR-5: Refugee Data Submission System for Formula Funds Allocations and Service Analysis (OMB#: 0970-0043, expiration 4/30/2024) and requests an extension of approval for three years. Minor changes to the form ORR-5 include the addition of the following two data elements: client email address and client phone number. ACF estimates the proposed changes will not increase response burden.

DATES: Comments due within 60 days of publication. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description: The ORR-5 is designed to satisfy the statutory requirements of the Immigration and Nationality Act (INA). Section 412(a)(3) of INA (8 U.S.C. 1522(a)(3)) requires that the Director of ORR make a periodic assessment of the needs of refugees for assistance and services and the resources available to meet those needs. ORR proposes an extension with minor changes to the current form to ensure continuous information collection, enabling the ORR Director to better understand client demographics, services utilized, and the outcomes achieved by clients enrolled in certain ORR-funded programs. Data elements continue to include ORR program entrance and exit dates, biographical information, referrals for services, progress made toward achieving self-sufficiency, and employment status. ORR proposes to add the following two data elements: client email address and client phone number. Adding these data points will enable ORR to obtain updated contact information for refugees who received ORR-funded services. The data collected will inform evidence-based policy making and program design.

Respondents: States, Replacement Designees, and the District of Columbia.

Annual Burden Estimates
Instrument | Total number of respondents | Annual number of responses per respondent | Average burden hours per response | Annual burden hours
Refugee Data Submission for Formula Funds Allocations and Service Analysis (ORR-5) | 50 | 1 | 140 | 7,000

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 8 U.S.C. 1522(a)(3).

Mary B. Jones,
ACF/OPRE Certifying Officer.

[FR Doc. 2023-26552 Filed 12-1-23; 8:45 am]

BILLING CODE 4184-45-P